SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice includes a revision to an OMB-approved information collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB), Office of Management and Budget, Attn: Desk Officer for SSA, Fax: 202-395-6974, E-mail address: OIRA_Submission@omb.eop.gov .

(SSA), Social Security Administration, DCBFM, Attn: Reports Clearance Officer, 1333 Annex Building, 6401 Security Blvd., Baltimore, MD 21235, Fax: 410-965-6400, E-mail address: OPLM.RCO@ssa.gov.

The information collection below is pending at SSA. SSA will submit it to OMB within 60 days from the date of this notice. Therefore, your comments would be most helpful if you submit them to SSA within 60 days from the date of this publication. Individuals can obtain copies of the collection instrument by calling the SSA Reports Clearance Officer at 410-965-0454 or by writing to the e-mail address listed above.

1. Accelerated Benefits Demonstration Project—0960-0747

Background

In early 2007, SSA obtained OMB approval for the Accelerated Benefits Demonstration Project. This multi-phase study, conducted by SSA's research contractors and health care experts, will assess if providing new Social Security Disability Insurance (SSDI) recipients with health care and other benefits would stabilize or improve their health and help them return to work early. In this long-term study, SSA's contractor divided new SSDI recipients into three groups: (1) A control group who would receive just regular SSDI benefits; (2) a treatment group who would receive immediate access to health care benefits; and (3) a treatment group who would receive health care benefits and additional care management, employment, and benefits services and support.

Update/Current Information Collection Request (ICR)

Having conducted baseline and 6-month follow-up surveys with the three participant groups, SSA is now ready to move on to the next phase of the study: a 12-month followup survey. This ICR is for the 12-month followup survey, which we plan to conduct beginning in March 2009. We will use telephone interviews for the survey, with in-person followup for non-responders as necessary. We will attempt to contact all 2,000 participants and expect to complete followup interviews with 1,600 of them (80 percent). The survey is intended to explore participants' experiences after one year in the program, which will provide initial data on the effects of the health care and “heath care plus” treatments. The respondents are SSDI beneficiaries participating in the Accelerated Benefits Demonstration Project.

Burden Data for 12-Month Follow-Up Survey

Type of Request: Revision to an existing OMB-approved information collection.

Number of Respondents: 1,600.

Frequency of Response: 1.

Average Burden Per Response: 45 minutes.

Estimated Annual Burden: 1,200 hours.

2. SSI Notice of Interim Assistance Reimbursement (IAR)—0960-0546

Section 1631(g) of the Social Security Act authorizes SSA to reimburse a state or local interim assistance reimbursement (IAR) agency from an individual's initial retroactive Supplemental Security Income (SSI) payment for assistance the IAR agency gave the individual for meeting basic needs while an SSI claim was pending or SSI benefits were suspended or terminated. Under the IAR process, agencies are required to conduct an evaluation to determine if the applicant is disabled or employable. There are individual state general assistance requirements that the claimant must meet for IAR benefits. If the claimant meets these requirements, the IAR agency and the claimant enter into an agreement. Claimants also sign an authorization with an IAR agency to allow SSA to repay the IAR agency for funds paid in advance prior to eligibility approval. To be eligible for IAR benefits, the claimant must file or have filed an SSI claim.

Agencies who wish to enter into an IAR agreement with SSA must meet the following requirements:

(a) Reporting Requirements. Each IAR agency agrees to: (1) Notify SSA of receipt of authorization for new IAR claims and submit a copy of that authorization; (2) inform SSA of the amount of reimbursement; (3) submit a written request for dispute resolution on a determination; (4) notify SSA of interim assistance rendered (through the SSA-8125 and SSA-L8125, or electronically); (5) inform SSA of any deceased claimants who participate in the IAR program; and (6) review and sign an agreement with SSA.

(b) Recordkeeping Requirements: The IAR agencies agree to retain all notices, agreement, authorizations, and accounting forms for the period defined in the IAR agreement for the purposes of SSA verifying transactions covered under the agreement.

(c) Third Party Disclosure Requirements: Each participating IAR agency must agree to send written notices from the IAR agency to the recipient regarding payment amounts.

(d) Periodic Review of Agency Accounting Process: The IAR agency must make available for SSA review and verification the IAR accounting records of paid cases. SSA conducts an onsite review of the authorization forms, notices to the claimant and accounting forms. Upon completion of the review, SSA provides a written report of findings to the IAR agency director.

SSA is currently in the process of automating the IAR process. SSA completed Phase 1 of the automated process, called eIAR, in June 2008 by creating a database that will allow real-time updates for IAR cases. Phase 2 (targeted for 2009) will eliminate the paper Forms SSA-8125 and SSA-L8125-F6. SSA will receive and send all exchanges of information through electronic mail (email) and a secure Internet site. The eIAR process will store IAR agency accounting and SSA payment data for use by SSA regional office staff for auditing the IAR agency records. The IAR agency will have access to IAR information (past and present) for their purposes. Respondents are IAR agencies.

Type of Request: Revision of an OMB-approved information collection.

Reporting Requirements
Type of request | Number of respondents | Frequency of response | Number of responses | Average burden per response (minutes) | Estimated annual burden hours (hours)
Notification of Receipt of Authorization (Electronic Process) | 11 | 8,856 | 97,416 | 1 | 1,624
Submission of Copy of Authorization (Manual Process) | 26 | 792 | 20,592 | 3 | 1,030
Notification to SSA of Amount of Reimbursement | 39 | 577 | 22,503 | 30 | 11,252
Request for Determination—Dispute Resolution | 2 | 1 | 2 | 15 | 1
Form SSA-8125 | 39 | 1,282 | 49,998 | 10 | 8,333
Form SSA-L8125-F6 | 39 | 1,282 | 49,998 | 10 | 8,333
eIAR Process | 39 | 2,564 | 99,996 | 8 | 13,333
Notification to SSA of Deceased Claimant | 20 | 2 | 40 | 15 | 10
Review/Signing Agreements | 39 | 1 | 39 | * 12 | 468
* Hours.

Recordkeeping Requirements
| Number of respondents | Frequency of response | Number of responses | Average burden per response (minutes) | Estimated annual burden hours
Maintenance of Authorization Forms | 39 | 3,189 | 124,371 | 3 | 6,219
Maintenance of Accounting Forms and Notices | 39 | 3,189 | 124,371 | 3 | 6,219

Third Party Disclosure Requirements
| Number of respondents | Frequency of response | Number of responses | Average burden per response (minutes) | Estimated annual burden hours
Written Notice From IAR Agency to Recipient Regarding Amount of Payment | 39 | 576 | 22,464 | 7 | 2,621

Periodic Review of Agency Accounting Process
| Number of respondents | Frequency of response | Number of responses | Average burden per response (hours) | Estimated annual burden hours
Retrieve and Consolidate Authorization and Accounting Forms | 12 | 1 | 12 | 3 | 36
Participate in Periodic Review | 12 | 1 | 12 | 16 | 192
Correct Administrative and Accounting Discrepancies | 6 | 1 | 6 | 4 | 24

Total Administrative Burden
| Number of respondents | Frequency of response | Number of responses | Average burden per response | Estimated annual burden hours
Totals | 39 |  | 611,820 |  | 59,695

Date: September 18, 2008.
Elizabeth A. Davidson,
Reports Clearance Officer, Social Security Administration.

[FR Doc. E8-22642 Filed 9-24-08; 8:45 am]

BILLING CODE 4191-02-P